DEPARTMENT OF THE INTERIOR

Fish and Wildlife Service

[FWS-HQ-MB-2024-N076; FXMB12330900000-256-FF09M13000; OMB Control Number 1018-0135]

Agency Information Collection Activities; Submission to the Office of Management and Budget; Electronic Federal Duck Stamp Program

AGENCY: Fish and Wildlife Service, Interior.

ACTION: Notice of information collection; request for comment.

SUMMARY: In accordance with the Paperwork Reduction Act of 1995, we, the U.S. Fish and Wildlife Service (Service), are proposing to revise a currently approved information collection.

DATES: Interested persons are invited to submit comments. To be considered, your comments must be received on or before June 5, 2025.

ADDRESSES: Submit written comments and recommendations for the proposed information collection at https://www.reginfo.gov/public/do/PRAMain. Find this particular information collection by selecting “Currently under Review—Open for Public Comments” or by using the search function. Please provide a copy of your comments to the Service Information Collection Clearance Officer, U.S. Fish and Wildlife Service, MS: PRB (JAO/3W), 5275 Leesburg Pike, Falls Church, VA 22041-3803 (mail); or by email to Info_Coll@fws.gov. Please reference “1018-0135” in the subject line of your comments.

FOR FURTHER INFORMATION CONTACT: Madonna L. Baucum, Service Information Collection Clearance Officer, by email at Info_Coll@fws.gov, or by telephone at (703) 468-8211. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the Paperwork Reduction Act (PRA; 44 U.S.C. 3501 et seq.) and its implementing regulations at 5 CFR 1320.8(d)(1), all information collections require approval by the Office of Management and Budget (OMB). We may not conduct or sponsor and you are not required to respond to a collection of information unless it displays a currently valid OMB control number.

On June 3, 2024, we published in the Federal Register (89 FR 47587) a notice of our intent to request that OMB approve this information collection. In that notice, we solicited comments for 60 days, ending on August 2, 2024. We also published the notice on Regulations.gov (Docket No. FWS-HQ-MB-2024-0075). We received two comments in response to that notice which did not address the information collection requirements; therefore, no response to those comments is required.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this information collection request. Before including your address, phone number, email address, or other personal identifying information in your comment, you should be aware that your entire comment—including your personal identifying information—may be made publicly available at any time. While you can ask us in your comment to withhold your personal identifying information from public review, we cannot guarantee that we will be able to do so.

Abstract: On March 16, 1934, Congress passed, and President Franklin D. Roosevelt signed, the Migratory Bird Hunting Stamp Act (16 U.S.C. 718a et seq.). Popularly known as the Duck Stamp Act, it requires all migratory waterfowl hunters 16 years of age or older to buy a Federal migratory bird hunting and conservation stamp (Federal Duck Stamp) annually. The stamps are a vital tool for wetland conservation. Ninety-eight cents out of every dollar generated by the sale of Federal Duck Stamps is used to purchase or lease wetland habitat for protection in the National Wildlife Refuge System. The Federal Duck Stamp program is one of the most successful conservation programs ever initiated and is a highly effective way to conserve America's natural resources. Besides serving as a hunting permit and a conservation tool, a current year's Federal Duck Stamp also serves as an entrance pass for national wildlife refuges where admission is charged. Duck Stamps and products that bear stamp images are also popular collector's items.

The Electronic Duck Stamp Act of 2005 (Pub. L. 109-266) required the Secretary of the Interior to conduct a 3-year pilot program, under which States could issue electronic Federal Duck Stamps. This pilot program was made permanent with the passage of the Permanent Electronic Duck Stamp Act of 2013 (Pub. L. 113-239) on December 19, 2023. The Duck Stamp Modernization Act of 2023 (Modernization Act; Pub. L. 118-25) removed the temporary nature of the electronic stamp certificate, making the electronic stamp valid from the time of purchase through the next June 30. The electronic stamp can be stored either digitally or printed and carried as a hard copy. The Modernization Act also stipulates that a physical stamp would be mailed to all electronic stamp purchasers after March 10 annually.

Today anyone, regardless of their State or country of residence, is able to purchase an electronic Duck Stamp through any State that participates in the program. The electronic stamp is issued as a certificate or proof of purchase and is valid from the date of purchase until the end of the Federal Duck Stamp year, which ends on June 30. Thus the electronic stamp is available for immediate use by the purchaser. Because it can be stored either digitally or by printing out and carrying a hard copy, customers are less likely to lose their proof of purchase. Customers no longer have to receive the actual physical stamp in the mail if they purchase an electronic stamp to comply with the law.

Eight States participated in the pilot program beginning in 2007. At the end of the pilot, we provided a report to Congress outlining the successes of the program. The program improved public participation by increasing the ability of the public to obtain required Federal Duck Stamps.

Under our authorities in 16 U.S.C. 718 et seq., we continued the Electronic Duck Stamp Program in the eight States that participated in the pilot and enrolled other interested States. Currently, the program includes 30 participating States. Several additional States have indicated interest in participating.

With the passage of the Modernization Act and to mitigate several challenges faced by the Service in implementing the program, memorandums of understanding (MOU) signed between the States and the Service must be reviewed, rewritten, and signed to reflect changes in the law and address several issues which reflect on the accountability, transparency, and effectiveness of the electronic Duck Stamp.

Interested States must apply, using Form 3-2341, based on their ability to meet the responsibilities as outlined in the updated MOU. We will use the information provided in the application to determine a State's eligibility to participate in the program and willingness to comply with the requirements of issuing an electronic stamp. Information includes, but is not limited to:

• Information verifying the current systems the State uses to sell hunting, fishing, and other associated licenses and products.

• Applicable State laws, regulations, or policies that authorize the use of electronic systems to issue licenses.

• Examples and explanations of the codes the State proposes to use to create and endorse the unique identifier for the individual to whom each stamp is issued.

• Mockup copy of the printed version of the State's proposed electronic stamp, including a description of how attention will be drawn to customer support information and identifying features of the licensee to be specified on the permit.

• Description of all fees the State will charge for issuance of an electronic stamp and how these will be conveyed to the customer.

• Description of the process the State will use to account for and transfer the amounts collected by the State that are required to be transferred under the program.

• Manner in which the State will transmit electronic stamp customer data.

Each State approved to participate in the program must provide the following information, on a regular basis (not to exceed 7 days post purchase), to the Service-approved stamp distribution company, to enable that company to issue the physical stamp and to collect funds owed to the Service:

• Full name (first, middle, last, and any prefixes/suffixes), and complete mailing address of each individual who purchases an electronic stamp from the State.

• Date of e-stamp purchase.

Proposed Revisions

Changes to Form 3-2341, “Application and Instructions to Participate in the Electronic Federal Duck Stamp Program,” include:

• change in effective date from September 1, 20##, to July 1, 20## (field is customizable each year), to coincide with the Duck Stamp validity dates;

• removal of application deadline as completed applications will be accepted at any point in time;

• update the background details for the Electronic Federal Duck Stamp Program;

• update website contact information;

• request for transparent description of all charges assessed to each customer for the purchase of an Electronic Federal Duck Stamp and how they will be relayed to the customer;

• removal of language reflecting the past temporary nature of the Electronic Federal Duck Stamp; and

• request for information allowing the Service to measure any challenges to the distribution and number of interested Electronic Federal Duck Stamp purchasers.

Changes to the example MOU referenced in Form 3-2341 include:

• Section I—Authority: Update to authorities to add the Modernization Act.

• Section II—Background: Update details to include dollar and acreage figures, as well as details regarding changes required by the Modernization Act,

• Section IV—Responsibilities of the Parties: Update the requirements of the Service to include:

—mailing of physical stamps on or after March 10 of each year;

—reinforcing monthly invoicing and full payment requirements for electronic stamp purchases;

—clarification of the review of handling charges to include monitoring for cost efficiencies, consistencies, accuracies, and transparency.

Update the requirements for the States to:

—assist the Service in promoting the art, tradition, and history of the printed pictorial stamp;

—provide an online electronic stamp option for at least 9 months covering the period of August 1 through April 30;

—issue an electronic certificate and a proof of purchase that can be carried digitally or on paper which is readily available for inspection with supporting identification by all authorized individuals (i.e., fee collection or law enforcement officers);

—clarify that both the certificate and the receipt of purchase will contain and display a secure, unique identifier for the individual to whom it is issued, specify that the electronic stamp is valid until June 30 of the year printed on the physical stamp, state that the electronic stamp is both non-refundable and non-transferable, information that a physical stamp will be mailed after March 10 annually, and contact information for the Service's stamp fulfillment center in the event of questions;

—clarify that the State will not provide or replicate a digital image of the Federal Duck Stamp itself as proof of purchase;

—require the State provide the customer with a breakdown of all fees the State is charging related to their purchased electronic stamp;

—inform and provide the customer with assistance in the event they need to reprint or otherwise retrieve the State issued proof of purchase in digital or physical form;

—inform customers that all sales of the electronic Federal Duck Stamp are final and non-refundable;

—Promptly send the required information for all customers who have purchased an electronic stamp to the Service's designated stamp fulfillment center within a maximum of 7 days of purchase by customer (preferably on a daily basis);

—State will be invoiced at the end of the month for all sales of Federal Duck Stamps sold through the State's licensing system during the month;

—States may not make partial payments or payments on a quarterly or annual basis; and

—Provide the Service and its distributors with any updates to laws, regulations or policies related to the State's electronic licensing system.

• Section V—General Provisions: We added distributors to the list of required acknowledgements in program publicity material and clarified that in-person or virtual meetings apply to both individually scheduled or regularly scheduled meetings.

• Section VII—Period of MOU: We updated the dates from 2022-2025 to 2025-2028 and included a caveat that the MOU may be extended; added a clarification that either party may ask for a meeting to discuss issues; and added a clause stating that in the event that the agreement is terminated for cause, the Service may require the State to reapply to be enrolled in the program.

Title of Collection: Electronic Federal Duck Stamp Program.

OMB Control Number: 1018-0135.

Form Number: Form 3-2341.

Type of Review: Revision of a currently approved collection.

Respondents/Affected Public: State fish and wildlife agencies.

Respondent's Obligation: Required to obtain or retain a benefit.

Frequency of Collection: One time for applications, and an average of once every 7 days per respondent for fulfillment reports.

Total Estimated Annual Nonhour Burden Cost: None.

Activity/requirement | Estimated number of annual respondents | Estimated number of annual responses | Completion time per response (hours) | Estimated total annual burden hours
New Applications (3-2341) | 20 | 20 | 40 | 800
Currently Enrolled Application (3-2341) | 30 | 30 | 10 | 300
Fulfillment Reports | 49 | 1,911 | 1 | 1,911
Totals | 99 | 1,961 |  | 3,011

An agency may not conduct or sponsor and a person is not required to respond to a collection of information unless it displays a currently valid OMB control number.

The authority for this action is the Paperwork Reduction Act of 1995 (44 U.S.C. 3501 et seq.).

Jillian Eanett,
Acting Information Collection Clearance Officer, U.S. Fish and Wildlife Service.

[FR Doc. 2025-07832 Filed 5-5-25; 8:45 am]

BILLING CODE 4333-15-P